FEDERAL COMMUNICATIONS COMMISSION

47 CFR Part 0

[MD Docket No. 26-18; FCC 26-5; FR ID 331772]

Delegations of Authority

AGENCY: Federal Communications Commission.

ACTION: Final rule.

SUMMARY: In this document, the Federal Communications Commission (Commission) modifies its rules regarding the delegated authority of the Chairman and the Managing Director to settle claims filed against the agency under the Federal Tort Claims Act (FTCA) and the Military Personnel and Civilian Employees' Claims Act (MPCECA).

DATES: These rules are effective February 26, 2026.

FOR FURTHER INFORMATION CONTACT: Steven Fecarotta, 202-418-7178, Steven.Fecarotta@fcc.gov.

SUPPLEMENTARY INFORMATION: This is a summary of the Commission's Order, in MD Docket No. 26-18, FCC 26-5, adopted on February 2, 2026 and released on February 5, 2026. The full text of this document can be downloaded at https://docs.fcc.gov/public/attachments/FCC-26-5A1.pdf.

The rules in this document do not contain new or modified information collection requirements subject to the Paperwork Reduction Act of 1995, 44 U.S.C. 3501-3521. In addition, therefore, it does not contain any new or modified information collection burden for small business concerns with fewer than 25 employees, pursuant to the Small Business Paperwork Relief Act of 2002, Public Law 107-198, 44 U.S.C. 3506(c)(4).

The Commission will not send a copy of the Order pursuant to the Congressional Review Act, see 5 U.S.C. 801(a)(1)(A), because the adopted rules are rules of agency organization, procedure, or practice that do not substantially affect the rights or obligations of non-agency parties.

The Commission's previous rules limited the authority of the Chairman and the Managing Director to settle claims under the FTCA that did not exceed $5,000, even though the FTCA provides that heads of Federal agencies may settle claims up to $25,000. Under the previous rule, a full Commission vote was required to settle FTCA claims above $5,000. The cost of living has significantly increased since the initial rule was adopted. The amended rule revises the delegated authority of the Chairman and the Managing Director, increasing their authority to settle FTCA claims to $25,000, consistent with the FTCA. Similarly, the Commission's rules limited the authority of the Managing Director to settle MPCECA claims that did not exceed $6,500, even though the MPCECA provides that heads of Federal agencies may settle MPCECA claims up to $40,000. The amended rule revises the delegated authority of the Managing Director, increasing its authority (upon concurrence of the Commission's Office of General Counsel) to settle MPCECA claims to $40,000, consistent with the MPCECA.

List of Subjects in 47 CFR Part 0

Authority delegations (Government agencies), Organization and functions (Government agencies).

Federal Communications Commission.
Marlene Dortch,
Secretary.

Final Rules

For the reasons discussed in the preamble, the Federal Communications Commission amends 47 CFR part 0 as follows:

PART 0—COMMISSION ORGANIZATION

1. The authority citation for part 0 continues to read as follows:

Authority: 47 U.S.C. 151, 154(i), 154(j), 155, 225, 409, and 1754, unless otherwise noted.

Subpart B—Delegations of Authority

2. Amend § 0.211 by revising paragraph (d) to read as follows:

§ 0.211 Chairman.

* * * * *

(d) To act within the purview of the Federal Tort Claims Act, as amended, 28 U.S.C. 2672, upon tort claims directed against the Commission where the amount of damages does not exceed $25,000.

* * * * *

3. Amend § 0.231 by revising paragraph (d) to read as follows:

§ 0.231 Authority delegated.

* * * * *

(d) The Managing Director, or his designee, upon securing the concurrence of the General Counsel, is delegated authority, within the purview of the Federal Tort Claims Act, as amended, 28 U.S.C. 2672, to grant tort claims directed against the Commission where the amount of the claim does not exceed $25,000. In addition thereto, the Managing Director, or his designee, upon securing the concurrence of the General Counsel, is delegated authority to act in the disposition of claims arising under the Military Personnel and Civilian Employees' Claims Act, as amended, 31 U.S.C. 3701 and 3721, where the amount of the claim does not exceed $40,000.

* * * * *

[FR Doc. 2026-03844 Filed 2-25-26; 8:45 am]

BILLING CODE 6712-01-P